DEPARTMENT OF HOMELAND SECURITY

Federal Emergency Management Agency

[Docket ID FEMA-2025-0002; Internal Agency Docket No. FEMA-B-2566]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Assistant Administrator for the Federal Insurance Directorate, Resilience, reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience, Federal Emergency Management Agency, Department of Homeland Security.

State and county | Location and case No. | Chief executive officer of community | Community map repository | Online location of letter of map revision | Date of modification | Community No.
Florida:
Alachua | Unincorporated areas of Alachua County (24-04-5305P) | Michele L. Lieberman, Alachua County Manager, 12 Southeast 1st Street, Gainesville, FL 32601 | Alachua County Public Works Department, 5620 Northwest 120th Lane, Gainesville, FL 32653 | https://msc.fema.gov/portal/advanceSearch | Jan. 5, 2026 | 120001
Lake. | Town of Lady Lake (25-04-1165P) | William Lawrence, Town Manager, Town of Lady Lake, 409 Fennell Boulevard, Lady Lake, FL 32159 | Town Hall, 409 Fennell Boulevard, Lady Lake, FL 32159 | https://msc.fema.gov/portal/advanceSearch | Dec. 31, 2025 | 120613
Lake | Unincorporated areas of Lake County (25-04-1165P) | The Honorable Leslie Campione, Chair, Lake County Board of Commissioners, 315 West Main Street, Tavares, FL 32778 | Lake County Public Works Department, 323 North Sinclair Avenue, Tavares, FL 32778 | https://msc.fema.gov/portal/advanceSearch | Dec. 31, 2025 | 120421
Manatee | Unincorporated areas of Manatee County (24-04-1636P) | Charlie Bishop, Manatee County Administrator, 1112 Manatee Avenue West, Bradenton, FL 34205 | Manatee County Administration Building, 1112 Manatee Avenue West, Bradenton, FL 34205 | https://msc.fema.gov/portal/advanceSearch | Dec. 29, 2025 | 120153
Manatee | Unincorporated areas of Manatee County (24-04-1605P) | Charlie Bishop, Manatee County Administrator, 1112 Manatee Avenue West, Bradenton, FL 34205 | Manatee County Administration Building, 1112 Manatee Avenue West, Bradenton, FL 34205 | https://msc.fema.gov/portal/advanceSearch | Jan. 16, 2026 | 120153
Monroe | Unincorporated areas of Monroe County (25-04-4970P) | The Honorable Jim Scholl, Mayor, Monroe County Board of Commissioners, 530 Whitehead Street, Key West, FL 33040 | Monroe County Building Department, 2798 Overseas Highway, Suite 300, Marathon, FL 33050 | https://msc.fema.gov/portal/advanceSearch | Jan. 9, 2026 | 125129
Monroe | Unincorporated areas of Monroe County (25-04-4972P) | The Honorable Jim Scholl, Mayor, Monroe County Board of Commissioners, 530 Whitehead Street, Key West, FL 33040 | Monroe County Building Department, 2798 Overseas Highway, Suite 300, Marathon, FL 33050 | https://msc.fema.gov/portal/advanceSearch | Jan. 2, 2026 | 125129
Pasco | Unincorporated areas of Pasco County (24-04-2232P) | Mike Carballa, Pasco County Administrator, 8731 Citizens Drive, New Port Richey, FL 33654 | Pasco County Government Center, 8731 Citizens Drive, New Port Richey, FL 33654 | https://msc.fema.gov/portal/advanceSearch | Jan. 2, 2026 | 120230
Pasco | Unincorporated areas of Pasco County (24-04-2418P) | Mike Carballa, Pasco County Administrator, 8731 Citizens Drive, New Port Richey, FL 33654 | Pasco County Government Center, 8731 Citizens Drive, New Port Richey, FL 33654 | https://msc.fema.gov/portal/advanceSearch | Jan. 8, 2026 | 120230
Sarasota | City of North Port (24-04-4492P) | Jerome Fletcher, Manager, City of North Port, 4970 City Hall Boulevard, North Port, FL 34286 | City Hall, 4970 City Hall Boulevard, North Port, FL 34286 | https://msc.fema.gov/portal/advanceSearch | Dec. 31, 2025 | 120279
Sarasota | Unincorporated areas of Sarasota County (24-04-4492P) | Jonathan R. Lewis, Sarasota County Administrator, 1660 Ringling Boulevard, Sarasota, FL 34236 | Sarasota County Government Center, 1001 Sarasota Center Boulevard, Sarasota, FL 34240 | https://msc.fema.gov/portal/advanceSearch | Dec. 31, 2025 | 125144
Indiana:
Hamilton | City of Westfield (24-05-0299P) | The Honorable Scott Willis, Mayor, City of Westfield, 2728 East 171st Street, Westfield, IN 46074 | Community Services Department, 2728 East 171st Street, Westfield, IN 46074 | https://msc.fema.gov/portal/advanceSearch | Dec. 30, 2025 | 180083
Hamilton | Unincorporated areas of Hamilton County (24-05-0299P) | The Honorable Steve Dillinger, President, Hamilton County Board of Commissioners, 1 Hamilton County Square, Suite 157, Noblesville, IN 46060 | Hamilton County Planning Commission, 1 Hamilton County Square, Suite 13, Noblesville, IN 46060 | https://msc.fema.gov/portal/advanceSearch | Dec. 30, 2025 | 180080
Michigan:
Kent | Township of Ada (24-05-2541P) | Julius Suchy, Township Manager, Township of Ada, 7330 Thornapple River Drive, Ada, MI 49301 | Township Hall, 7330 Thornapple River Drive, Ada, MI 49301 | https://msc.fema.gov/portal/advanceSearch | Jan. 2, 2026 | 260248
Minnesota:
Hennepin | City of Edina (25-05-1025P) | The Honorable James Hovland, Mayor, City of Edina, 4801 West 50th Street, Edina, MN 55424 | Public Works Department, 7450 Metro Boulevard, Edina, MN 55439 | https://msc.fema.gov/portal/advanceSearch | Dec. 26, 2025 | 270160
North Carolina:
Mecklenburg | City of Charlotte (25-04-3020P) | The Honorable Vi Alexander Lyles, Mayor, City of Charlotte 600 East 4th Street, Charlotte, NC 28202 | Mecklenburg County Stormwater Services, 2145 Suttle Avenue, Charlotte, NC 28208 | https://msc.fema.gov/portal/advanceSearch | Jan. 14, 2026 | 370159
South Carolina:
Lancaster | Unincorporated areas of Lancaster County (25-04-2258P) | The Honorable Dennis Marstall, County Administrator, Lancaster County, 101 North Main Street, Lancaster, SC 29720 | Lancaster County Stormwater Department, 101 North Main Street, Lancaster, SC 29720 | https://msc.fema.gov/portal/advanceSearch | Jan. 8, 2026 | 450120
Richland | City of Columbia (24-04-1753P) | The Honorable Daniel J. Rickenmann, Mayor, City of Columbia, 1737 Main Street, Columbia, SC 29201 | Engineering Department, 1401 Main Street, 5th Floor, Columbia, SC 29201 | https://msc.fema.gov/portal/advanceSearch | Jan. 12, 2026 | 450172
Richland | Unincorporated areas of Richland County (24-04-1753P) | The Honorable Jesica Mackey, Chair, Richland County Council, P.O. Box 192, Columbia, SC 29201 | Richland County Administration Building, 2020 Hampton Street, Columbia, SC 29204 | https://msc.fema.gov/portal/advanceSearch | Jan. 12, 2026 | 450170
Sumter | Unincorporated areas of Sumter County (25-04-1056P) | The Honorable James T. McCain, Jr., Chair, Sumter County Council, 317 West Bartlette Street, Sumter, SC 29150 | Sumter County Courthouse, 13 East Canal Street, Sumter, SC 29150 | https://msc.fema.gov/portal/advanceSearch | Jan. 8, 2026 | 450182
Tennessee:
Rutherford | City of Murfreesboro (25-04-2322P) | The Honorable Shane McFarland, Mayor, City of Murfreesboro, 111 West Vine Street, Murfreesboro, TN 37130 | Planning Department, 111 West Vine Street, Murfreesboro, TN 37130 | https://msc.fema.gov/portal/advanceSearch | Jan. 14, 2026 | 470168
Rutherford | Unincorporated areas of Rutherford County (25-04-2322P) | The Honorable Joe Carr, Mayor, Rutherford County, 1 Public Square, Room 101, Murfreesboro, TN, 37130 | Rutherford County Planning and Engineering Department, 1 South Public Square, Room 200, Murfreesboro, TN, 37130 | https://msc.fema.gov/portal/advanceSearch | Jan. 14, 2026 | 470165
Texas:
Collin | City of Anna (24-06-2600P) | The Honorable Pete Cain, Mayor, City of Anna, P.O. Box 776, Anna, TX 75409 | City Hall, 120 West 7th Street, Suite 142, Anna, TX 75409 | https://msc.fema.gov/portal/advanceSearch | Jan. 2, 2026 | 480132
Collin | City of Celina (24-06-1206P) | The Honorable Ryan Tubbs, Mayor, City of Celina, 142 North Ohio Street, Celina, TX 75009 | City Hall, 142 North Ohio Street, Celina, TX 75009 | https://msc.fema.gov/portal/advanceSearch | Jan. 12, 2026 | 480133
Collin | Unincorporated areas of Collin County (24-06-1206P) | The Honorable Chris Hill, Collin County Judge, 2300 Bloomdale Road, 1st Floor, McKinney, TX 75071 | Collin County Engineering Building, 4690 Community Avenue, Suite 200, McKinney, TX 75071 | https://msc.fema.gov/portal/advanceSearch | Jan. 12, 2026 | 480130
Collin and Denton | City of Frisco (25-06-0844P) | The Honorable Jeff Cheney, Mayor, City of Frisco, 6101 Frisco Square Boulevard, Frisco, TX 75034 | Engineering Development Department, 6101 Frisco Square Boulevard, Frisco, TX 75034 | https://msc.fema.gov/portal/advanceSearch | Jan. 12, 2026 | 480134
Harris | City of Houston (24-06-2261P) | The Honorable John Whitmire, Mayor, City of Houston, P.O. Box 1562, Houston, TX 77251 | Floodplain Management Office, 1002 Washington Avenue, Houston, TX 77002 | https://msc.fema.gov/portal/advanceSearch | Jan. 5, 2026 | 480296
Johnson | Unincorporated areas of Johnson County (25-06-0711P) | The Honorable Christopher Boedeker, Johnson County Judge, 2 North Main Street, Cleburne, TX 76033 | Johnson County Department of Public Works, 2 North Mill Street, Suite 305, Cleburne, TX 76033 | https://msc.fema.gov/portal/advanceSearch | Jan. 8, 2026 | 480879
Montgomery | City of Conroe (24-06-2734P) | The Honorable Duke W. Coon, Mayor, City of Conroe, P.O. Box 3066, Conroe, TX 77305 | City Hall, 300 West Davis Street, Conroe, TX 77301 | https://msc.fema.gov/portal/advanceSearch | Jan. 7, 2026 | 480484
Montgomery | Unincorporated areas of Montgomery County (24-06-2734P) | The Honorable Mark J. Keough, Montgomery County Judge, 501, North Thompson Street, Suite 401, Conroe, TX 77301 | Montgomery County Government Building, 501 North Thompson Street, Suite 100, Conroe, TX 77301 | https://msc.fema.gov/portal/advanceSearch | Jan. 7, 2026 | 480483
Tarrant | City of Fort Worth (25-06-0686P) | The Honorable Mattie Parker, Mayor, City of Fort Worth, 100 Fort Worth Trail, Fort Worth, TX 76102 | Department of Transportation and Public Works, Stormwater Management Division, 100 Fort Worth Trail, Fort Worth, TX 76102 | https://msc.fema.gov/portal/advanceSearch | Jan. 5, 2026 | 480596

[FR Doc. 2025-22240 Filed 12-5-25; 8:45 am]

BILLING CODE 9110-12-P